DEPARTMENT OF TRANSPORTATION

National Highway Traffic Safety Administration

49 CFR Part 571

[Docket No. NHTSA-09-0117]

RIN 2127-AK42

Federal Motor Vehicle Safety Standards; New Pneumatic and Certain Specialty Tires

AGENCY: National Highway Traffic Safety Administration (NHTSA), Department of Transportation (DOT).

ACTION: Notice of proposed rulemaking (NPRM).

SUMMARY: This NPRM proposes to amend Federal Motor Vehicle Safety Standard (FMVSS) No. 109, New pneumatic and certain specialty tires, to change the test pressure for the physical dimensions test for T-type tires (temporary use spare tires) from 52 pounds per square inch (psi) to 60 psi. A 60-psi test pressure for the physical dimensions test would marginally increase the stringency of the test while harmonizing FMVSS No. 109 with international and voluntary consensus standards. This NPRM responds to a petition for rulemaking from the Tire & Rim Association.

DATES: You should submit your comments early enough to ensure that the Docket receives them no later than December 29, 2009.

ADDRESSES: You may submit comments (identified by the DOT Docket ID Number above) by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001

• Hand Delivery or Courier: West Building Ground Floor, Room W12-140, 1200 New Jersey Avenue, SE., between 9 a.m. and 5 p.m. ET, Monday through Friday, except Federal holidays.

• Fax: 202-493-2251

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78), or at http://www.dot.gov/privacy.html.

Docket: For access to the docket to read background documents or comments received, go to http://www.regulations.gov or the street address listed above. Follow the online instructions for accessing the dockets.

FOR FURTHER INFORMATION CONTACT: Santiago Navarro or George Soodoo, NHTSA Office of Rulemaking, telephone 202-366-2720, fax 202-493-2739. For legal issues, you may call Deirdre Fujita, NHTSA Office of Chief Counsel, telephone 202-366-2992, fax 202-366-3820. You may send mail to these officials at the National Highway Traffic Safety Administration, 1200 New Jersey Avenue, SE., West Building, Washington, DC, 20590.

SUPPLEMENTARY INFORMATION:

I. Background

a. T-Type Spare Tires

NHTSA regulates “T-type” spare tires under FMVSS No. 109, New pneumatic and certain specialty tires. A “T-type” spare tire refers to a type of spare tire that is manufactured to be used as a temporary substitute by the consumer for a conventional tire that failed. For T-type spare tires, FMVSS No. 109 specifies tire dimensions and laboratory test requirements for bead unseating resistance, strength, endurance, and high speed performance. The standard also defines tire load ratings and specifies labeling requirements for the tires.

NHTSA amended FMVSS No. 109 to permit the manufacture of T-type (then known as “60-psi”) spare tires in 1977, describing them as “differ[ing] substantially in specification and construction from conventional tires * * * [with] a higher inflation pressure (60 psi), different dimensions, and a shorter treadwear life than conventional tires.” ¹ The agency adopted endurance and high-speed performance tests, strength requirements, a resistance to bead unseating test, and a physical dimensions test, which were appropriate for the temporary use tires. Today's NPRM proposes an amendment to the physical dimensions test.

¹ 42 FR 12869, 12870 (March 7, 1977).

b. Physical Dimensions Test

The purpose of the physical dimensions test is to measure the tire's growth under inflated conditions and to determine if it is within allowable growth limits. If a tire exceeds allowable growth limits in the physical dimensions test, that indicates that there could be a safety risk from that tire not matching well with its rim, or not fitting well with the vehicle to which it is attached. Either of these mis-matches could present safety risks.

All T-type tires must comply with growth limits as specified by S4.2.2.2 of FMVSS No. 109, which states that the tire's actual section width and overall width may not exceed the specified section width ² by more than 7 percent or 10 millimeters (0.4 inches), whichever is greater. The “section width” of a tire is defined in S3 of FMVSS No. 109 as “the linear distance between the exteriors of the sidewalls of an inflated tire, excluding elevations due to labeling, decoration, or protective bands.”

² S4.2.2.2 states that the measured section width “shall not exceed the section width specified in a submission made by an individual manufacturer, pursuant to S4.4.1(a) or in one of the publications described in S4.4.1(b) for its size designation and type * * *.” (Emphasis added.) The “publications described in S4.4.1(b)” refer to the year books published by various tire manufacturer associations, such as T&RA. As a practical matter, individual tire manufacturers generally submit section width information to associations like T&RA for inclusion in the year books, rather than submitting such information directly to NHTSA, although FMVSS No. 109 allows the latter option.

The test procedure for the physical dimensions test is specified in S5.1 of FMVSS No. 109. That section states that the tire is mounted on the appropriate test rim and inflated to the pressure listed in Table II of the standard, which for 60-psi tires is 52 psi. The tire is then conditioned at ambient temperature for 24 hours, at which point the inflation is checked and adjusted back to 52 psi if necessary, and then the tire is measured again. The later measurement is then compared with the initial measurement to determine the tire's growth.

c. Test Pressure

NHTSA requires tire manufacturers to specify both a “recommended” pressure and a “maximum permissible inflation pressure.” The recommended inflation pressure is the operational inflation pressure needed to support the weight of the vehicle when loaded to its gross vehicle weight rating. The maximum permissible inflation pressure, which is required to be molded on the tire's sidewall, is the maximum pressure beyond which the tire should not be inflated. Usually a manufacturer's recommended inflation pressure is lower than the tire's maximum pressure labeled on the tire sidewall.

Since most tires have a recommended inflation pressure that is lower than the specified maximum pressure for the tire, the test pressure that NHTSA uses to test tires dynamically on a test wheel is generally lower than the maximum pressure labeled on the sidewall. Further, most tires are operated at some level of under-inflation during normal service. To reflect this real-world use, FMVSS No. 109's dynamic test procedures generally specify under-inflating a tire when testing the tire on the road-wheel. Moreover, dynamic tests are more stringent when the tire is tested at an inflation pressure lower than the pressure required to support the given test load. Under-inflating a tire eventually results in greater heat build-up due to over-deflection of a tire's sidewall, which increases the likelihood of tire failure.

Consistent with this approach, in the 1977 final rule NHTSA determined that T-type (60 psi) tires should be tested to all of the FMVSS No. 109 tests at a test pressure lower than the tire's maximum permissible inflation pressure of 60 psi. For the physical dimensions test, the agency determined that a 52-psi value reflects an operational inflation pressure appropriate for use in the test. The 52-psi maximum permissible inflation pressure adopted in 1977 has not been changed since that final rule.

II. Tire & Rim Association Petition

In a July 13, 2007 petition, the Tire & Rim Association (T&RA) requested that the agency make a technical correction ³ to Table II of FMVSS No. 109 regarding T-type tires. Specifically, T&RA requested that “the inflation pressure for the measurement of physical dimensions in Table II be changed from 52 psi to 60 psi.” T&RA stated that “There is only one application inflation pressure for T-type tires, 60 psi,” and that therefore “this is the appropriate pressure for the subject measurement.” The petitioner also stated that the inflation pressure for the bead unseating, tire strength, and tire endurance test should remain at 52 psi.

³ The agency believes that the petition should be addressed by this notice and comment rulemaking rather than by way of a technical correction.

III. Agency Proposal

We concur with the petitioner that rulemaking is warranted to change the inflation pressure for the physical dimensions test, specified in Table II of the standard, from 52 psi to 60 psi. We are not persuaded, however, by the petitioner's reasoning that the pressure should be changed because “there is only one application inflation pressure for T-type tires, 60 psi, and consequently we believe that this is the appropriate pressure for the subject measurement.” The agency rejected in 1977 the similar view that because these tires do not have a “design” load level but only a single load level at its maximum inflation pressure of 60 psi, the single load level (60 psi) constituted the design load level. The petitioner did not provide reasons as to why we should change the conclusion we came to in 1977 to conclude now that a pressure of 60 psi would better reflect those tires' normal service inflation pressure.⁴

⁴ Indeed, for the dynamic tests which T-type tires must pass under FMVSS No. 109, such as the endurance and high-speed tests, we would not concur that raising the 52 psi inflation pressure to 60 psi would be justified on the basis that “there is only one application inflation pressure [of 60 psi].”

Instead, we are proposing to raise the inflation pressure specification for the physical dimensions for two other reasons. First, raising the inflation pressure makes engineering sense because doing so would increase the stringency of the test under conditions that are within the realm of real world use. The physical dimensions test is a static test where the stringency of the test is not greater at lower inflation pressure but at higher inflation pressures. This is because the tire expands at higher inflation pressures, which means that it would be closer to the growth limit of its section width at a higher inflation pressure. If the physical dimensions test pressure for T-type tires were increased to 60 psi, then the test would become incrementally more stringent than at 52 psi, because the additional growth due to the higher inflation pressure would have to be within the current limit established in FMVSS No. 109. The physical dimensions test contrasts, in this respect, with the dynamic tests performed on the road-wheel. It is also conceivable that the tires would be operated at a 60 psi (or lower) inflation pressure since that is the inflation pressure assigned the tire by the manufacturer.

Second, raising the test pressure for the physical dimensions test for T-type tires from 52 psi to 60 psi is consistent with international harmonization. The European regulation which covers T-type tires, ECE Regulation 30, specifies that those tires be tested for physical dimensions at “4.2 bar,” which is 420 kPa or the metric equivalent of 60 psi.⁵ The Japanese regulation, Automobile Type Approval Handbook for Japanese Certification,⁶ also specifies that the inflation pressure of the T-type spare tires be 420 kPa when measuring the tire physical dimensions. Tire manufacturers, and ultimately, consumers, can expect to achieve cost savings through the harmonization of differing sets of standards. T-type tires are prepared for the world market. It would be more economically efficient for manufacturers to use the same test procedures and meet the same performance requirements worldwide. This proposal helps to achieve these benefits.

⁵ ECE Regulation No. 30, Annex 6, para. 1.2.5. Available at http://www.unece.org/trans/main/wp29/wp29regs/r030r3e.doc.

⁶ Automobile Type Approval Handbook for Japanese Certification, Safety Regulations for Road Vehicles, Technical Standards For Pneumatic Tyres For Passenger-Use Motor Vehicles, Annex 3, 1-2-5.

We believe that existing 60-psi T-type spare tires will be able to pass the amended physical dimensions test. Tires are designed to hold a very stable shape within their possible range of pressure, but especially at their operating pressure, which for T-type tires is 60 psi. Further, as mentioned above, existing European and Japanese regulations already specify that T-type tires be tested for physical dimensions at the metric equivalent of 60 psi, and as we believe that tire manufacturers develop similarly designed T-type tires for the U.S., European, and Japanese markets, T-type tires would be able to comply with the 60-psi requirement. Additionally, we note that the request to raise the physical dimensions test pressure came from a tire manufacturer trade association, which indicates that meeting the amended test is practicable. Thus, we anticipate that the costs of this proposed change to FMVSS No. 109, if any, would be minimal.

IV. Other Issues

This NPRM proposes other changes to FMVSS No. 109. These changes are minor and are as follows:

• The petitioner T&RA suggested that Table II's references to CT tires should be deleted. NHTSA tentatively agrees to this change since CT tires are no longer manufactured for sale in the U.S. Text in FMVSS No. 109 relating to CT tires (in S3, S4.2.1(b), S4.3.4 (inflation pressures related to CT tires), and in Table I-C) would also be removed.

• S4.4.1(b) would be revised to update the list of tire industry organizations, to make the list consistent with that established in the upgrade of FMVSS No. 139, “New pneumatic radial tires for light vehicles.” ⁷

⁷ 68 FR 38116; June 26, 2003, Docket NHTSA-03-15400; response to petitions for reconsideration, 71 FR 877, January 6, 2006, Docket 2005-23439; technical amendments, 72 FR 49207, August 28, 2007, Docket 2007-29083.

• Appendix A would be redesignated “Appendix” and moved to the end of the standard, following the current Table II of the standard. The first three sentences of the appendix would be corrected to remove references to any “tables,” which are no longer set forth in the appendix, and to update the address of NHTSA.

V. Proposed Effective Date

NHTSA proposes that a final rule on this rulemaking, assuming one is issued, would be effective 180 days after publication of the rule in the Federal Register. Optional early compliance would be permitted.

VI. Rulemaking Analyses and Notices

Executive Order 12866 and DOT Regulatory Policies and Procedures

This rulemaking document was not reviewed by the Office of Management and Budget under E.O. 12866. It is not considered to be significant under E.O. 12866 or the Department's Regulatory Policies and Procedures (44 FR 11034; Feb. 26, 1979). This NPRM proposes to increase slightly the stringency of an existing test applicable to T-type spare tires for passenger vehicles. The rulemaking would not affect current costs of testing T-type tires to FMVSS No. 109's performance requirements. The minimal impacts of today's amendment do not warrant preparation of a regulatory evaluation.

Regulatory Flexibility Act

In compliance with the Regulatory Flexibility Act, 5 U.S.C. 601 et seq., NHTSA has evaluated the effects of this action on small entities. I hereby certify that this proposed rule would not have a significant impact on a substantial number of small entities. The NPRM would affect tire manufacturers who manufacture T-type tires, none of which, according to the agency's knowledge, are small businesses. Even if there were a substantial number of small businesses manufacturing T-type tires, these entities would not be significantly affected by a final rule since to the agency's knowledge all currently manufactured T-type tires would meet the proposed amendment. The rulemaking would not affect current costs of testing T-type tires to FMVSS No. 109's performance requirements.

Executive Order 13132 (Preemption)

NHTSA has examined today's NPRM pursuant to E.O. 13132 (64 FR 43255; Aug. 10, 1999) and concluded that no additional consultation with States, local governments, or their representatives is mandated beyond the rulemaking process. The agency has concluded that the rulemaking would not have federalism implications because a final rule, if issued, would not have “substantial direct effects on the States, on the relationship between the national government and the States, or on the distribution of power and responsibilities among the various levels of government.”

Further, no consultation is needed to discuss the issue of preemption in connection with today's proposed rule. The issue of preemption can arise in connection with NHTSA rules in at least two ways. First, the National Traffic and Motor Vehicle Safety Act contains an express preemption provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). It is this statutory command that unavoidably preempts State legislative and administrative law, not today's rulemaking, so consultation would be unnecessary.

Second, the Supreme Court has recognized the possibility of implied preemption: in some instances, State requirements imposed on motor vehicle manufacturers, including sanctions imposed by State tort law, can stand as an obstacle to the accomplishment and execution of a NHTSA safety standard. When such a conflict is discerned, the Supremacy Clause of the Constitution makes the State requirements unenforceable. See Geier v. American Honda Motor Co., 529 U.S. 861 (2000). However, NHTSA has considered the nature and purpose of today's proposed rule and does not currently foresee any potential State requirements that might conflict with it. Without any conflict, there could not be any implied preemption.

National Environmental Policy Act

NHTSA has analyzed this NPRM for the purposes of the National Environmental Policy Act (NEPA). The agency has determined that implementation of this action would not have any significant impact on the quality of the human environment.

Paperwork Reduction Act

Under the procedures established by the Paperwork Reduction Act of 1995, a person is not required to respond to a collection of information by a Federal agency unless the collection displays a valid OMB control number. This NPRM would not establish any new information collection requirements.

National Technology Transfer and Advancement Act

Under the National Technology Transfer and Advancement Act of 1995 (NTTAA, Pub. L. 104-113), “all Federal agencies and departments shall use technical standards that are developed or adopted by voluntary consensus standards bodies, using such technical standards as a means to carry out policy objectives or activities determined by the agencies and departments.” This proposal would harmonize FMVSS No. 109 with several voluntary consensus standards, including the T&RA 2008 Year Book standard,⁸ the ETRTO standard,⁹ and the JATMA standard,¹⁰ all of which specify 60 psi or 420 kPa (or 4.2 bar) as the inflation pressure for measuring T-type tire dimensions. This proposal would also harmonize FMVSS No. 109 with ECE Regulation 30 and Japanese Safety Regulations, which currently require the physical dimensions test for T-type tires to be conducted at the tire's maximum permissible inflation pressure, 4.2 bar (420 kPa or 60 psi).

⁸ The Tire & Rim Association, Inc. (T&RA), Year Book, 2008. Measuring Procedure for New Tires, at XIII.

⁹ European Tyre and Rim Technical Organization (ETRTO), Standards Manual, 2005. Table 11.2, Temporary Use Spare Tyres—T Type, at P.22.

¹⁰ The Japan Automobile Tyre Manufacturers Association, Inc. (JATMA), Year Book (Tyre Standards), 2008. Section G-5, “Measuring Procedure for Tyres,” Note 1, at 0-4.

Civil Justice Reform

With respect to the review of the promulgation of a new regulation, section 3(b) of Executive Order 12988, “Civil Justice Reform” (61 FR 4729; Feb. 7, 1996), requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement.

Pursuant to this Order, NHTSA notes as follows. The issue of preemption is discussed above in connection with E.O. 13132. NHTSA notes further that there is no requirement that individuals submit a petition for reconsideration or pursue other administrative proceeding before they may file suit in court.

Unfunded Mandates Reform Act

The Unfunded Mandates Reform Act of 1995 requires agencies to prepare a written assessment of the costs, benefits, and other effects of proposed or final rules that include a Federal mandate likely to result in the expenditure by State, local, or tribal governments, in the aggregate, or by the private sector, of more than $100 million annually (adjusted for inflation with base year of 1995). This NPRM would not result in expenditures by State, local, or tribal governments, in the aggregate, or by the private sector, in excess of $100 million annually.

Executive Order 13045

E.O. 13045 (62 FR 19885; Apr. 23, 1997) applies to any rule that: (1) Is determined to be “economically significant” as defined under E.O. 12866, and (2) concerns an environmental, health, or safety risk that NHTSA has reason to believe may have a disproportionate effect on children. This rulemaking is not subject to E.O. 13045 because it is not economically significant as defined in E.O. 12866.

Executive Order 13211

E.O. 13211 (66 FR 28355; May 18, 2001) applies to any rulemaking that: (1) Is determined to be economically significant as defined under E.O. 12866, and is likely to have a significantly adverse effect on the supply of, distribution of, or use of energy, or (2) that is designated by the Administrator of the Office of Information and Regulatory Affairs as a significant energy action. This rulemaking is not subject to E.O. 13211.

Plain Language

E.O. 12866 and the President's memorandum of June 1, 1998, require each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an association, business, labor union, etc.). You may review DOT's complete Privacy Act Statement in the Federal Register published on April 11, 2000 (65 FR 19477-19478).

VII. Public Participation

How Do I Prepare and Submit Comments?

Your comments must be written and in English. To ensure that your comments are correctly filed in the Docket, please include the docket number of this document in your comments. Your comments must not be more than 15 pages long.¹¹ We established this limit to encourage you to write your primary comments in a concise fashion. However, you may attach necessary additional documents to your comments. There is no limit on the length of the attachments. Please submit your comments by a method set forth in the ADDRESSES section at the beginning of this document.

¹¹ See 49 CFR 553.21.

Please also note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html.

How Do I Submit Confidential Business Information?

If you wish to submit any information under a claim of confidentiality, you should submit three copies of your complete submission, including the information you claim to be confidential business information, to the Chief Counsel, NHTSA, at the address given above under FOR FURTHER INFORMATION CONTACT. When you send a comment containing information claimed to be confidential business information, you should include a cover letter setting forth the information specified in our confidential business information regulation. See 49 CFR part 512.

In addition, you should submit a copy, from which you have deleted the claimed confidential business information, to the Docket by one of the methods set forth above.

Will the Agency Consider Late Comments?

We will consider all comments received before the close of business on the comment closing date indicated above under DATES. To the extent possible, we will also consider comments received after that date. Therefore, if interested persons believe that any new information the agency places in the docket affects their comments, they may submit comments after the closing date concerning how the agency should consider that information for the final rule.

If a comment is received too late for us to consider in developing a final rule (assuming that one is issued), we will consider that comment as an informal suggestion for future rulemaking action.

How Can I Read the Comments Submitted By Other People?

You may read the materials placed in the docket for this document (e.g., the comments submitted in response to this document by other interested persons) at any time by going to http://www.regulations.gov. Follow the online instructions for accessing the dockets. You may also read the materials at the DOT Docket at the street address listed above.

List of Subjects in 49 CFR Part 571

Imports, Motor vehicle safety, Motor vehicles, Rubber and rubber products, and Tires.

In consideration of the foregoing, we propose to amend 49 CFR part 571 to read as follows:

PART 571—FEDERAL MOTOR VEHICLE SAFETY STANDARDS

1. The authority citation for Part 571 continues to read as follows:

Authority: 49 U.S.C. 322, 20111, 30115, 30166 and 30177; delegation of authority at 49 CFR 1.50.

2. § 571.109 is amended by—

A. Removing the definition of CT in S3;

B. Revising S4.2.1(b), the introductory text of S4.3.4, and S4.4.1(b);

C. Redesignating Appendix A as “Appendix to § 571.109,” moving the appendix to the end of § 571.109 (following the tables to § 571.109), and revising the appendix; and

D. Revising Table I-C and Table II.

The revised and redesignated text, tables, and appendix read as follows:

§ 571.109 Standard No. 109; New pneumatic and certain specialty tires.

* * * * *

S4.2.1

* * * * *

(b) Its maximum permissible inflation pressure shall be either 32, 36, 40, or 60 psi, or 240, 280, 300, 340, or 350 kPa.

* * * * *

S4.3.4 If the maximum inflation pressure of a tire is 240, 280, 300, 340, or 350 kPa, then:

* * * * *

S4.4.1

* * * * *

(b) Contained in publications, current at the date of manufacture of the tire or any later date, of at least one of the following organizations:

Tire and Rim Association

The European Tyre and Rim Technical Organization

Japan Automobile Tire Manufacturers' Association, Inc.

Tyre and Rim Association of Australia

Associacao Latino Americana de Pneus e Aros (Brazil)

South African Bureau of Standards

* * * * *

Table 1-C—For Radial Ply Tires
Size designation | Maximum permissible inflation: PSI: 32 | Maximum permissible inflation: PSI: 36 | Maximum permissible inflation: PSI: 40 | Maximum permissible inflation: kPa: 240 | Maximum permissible inflation: kPa: 280 | Maximum permissible inflation: kPa: 300 | Maximum permissible inflation: kPa: 340 | Maximum permissible inflation: kPa: 350
Below 160 mm:
(in-lbs) | 1,950 | 2,925 | 3,900 | 1,950 | 3,900 | 1,950 | 3,900 | 1,950
(joules) | 220 | 330 | 441 | 220 | 441 | 220 | 441 | 220
160 mm or above:
(in-lbs) | 2,600 | 3,900 | 5,200 | 2,600 | 5,200 | 2,600 | 5,200 | 2,600
(joules) | 294 | 441 | 588 | 294 | 588 | 294 | 588 | 294

* * * * *

Table II—Test Inflation Pressures
[Maximum permissible inflation pressure to be used for the following test]
Test type | psi: 32 | psi: 36 | psi: 40 | psi: 60 | kPa: 240 | kPa: 280 | kPa: 300 | kPa: 340 | kPa: 350
Physical dimensions | 24 | 28 | 32 | 60 | 180 | 220 | 180 | 220 | 180
Bead unseating, tire strength, and tire endurance | 24 | 28 | 32 | 52 | 180 | 220 | 180 | 220 | 180
High speed performance | 30 | 34 | 38 | 58 | 220 | 260 | 220 | 260 | 220

* * * * *

Appendix to § 571.109

Persons requesting the addition of new tire sizes not included in S4.4.1 (b) organizations may, upon approval, submit five (5) copies of information and data supporting the request to the Vehicle Dynamics Division, Office of Crash Avoidance Standards, National Highway Traffic Safety Administration, 1200 New Jersey Ave SE., Washington, DC 20590.

The information should contain the following:

1. The tire size designation, and a statement either that the tire is an adition to a category of tires listed in the tables or that it is in a new category for which a table has not been developed.

2. The tire dimensions, including aspect ratio, size factor, section width, overall width, and test rim size.

3. The load-inflation schedule of the tire.

4. A statement as to whether the tire size designation and load inflation schedule has been coordinated with the Tire and Rim Association, the European Tyre and Rim Technical Organization, the Japan Automobile Tire Manufacturers' Association, Inc., the Tyre and Rim Association of Australia, the Associacao Latino Americana de Pneus e Aros (Brazil), or the South African Bureau of Standards.

5. Copies of test data sheets showing test conditions, results and conclusions obtained for individual tests specified in § 571.109.

6. Justification for the additional tire sizes.

Issued: October 22, 2009.
Stephen R. Kratzke,
Associate Administrator for Rulemaking.

[FR Doc. E9-26135 Filed 10-29-09; 8:45 am]

BILLING CODE 4910-59-P